ENVIRONMENTAL PROTECTION AGENCY

40 CFR Part 52

[CA 257-0345; FRL-7174-1]

Withdrawal of Direct Final Rule Revising the California State Implementation Plan, El Dorado County Air Pollution Control District

AGENCY: Environmental Protection Agency (EPA).

ACTION: Withdrawal of direct final rule.

SUMMARY: EPA is withdrawing direct final approval of revisions to the California State Implementation Plan (SIP) that were published on March 1, 2002 (67 FR 9403).

DATES: This direct final rule is withdrawn as of April 23, 2002.

FOR FURTHER INFORMATION CONTACT: Roger Kohn, Permits Office (Air-3), U.S. Environmental Protection Agency, Region IX, (415) 972-3973.

SUPPLEMENTARY INFORMATION: On March 1, 2002 (67 FR 9424), EPA proposed to approve El Dorado County Air Pollution Control District (EDCAPCD) Rule 523, New Source Review, into the California State Implementation Plan (SIP).

On the same day (67 FR 9403), EPA also published a direct final rule approving these rules into the SIP. The proposed action provided a 30 public comment period and explained that if we received adverse comments, we would withdraw the relevant direct final action.

We did receive adverse comments, and are therefore withdrawing the direct final approval of EDCAPCD Rule 523. We are not opening an additional comment period. We intend to finalize action on these rules based on the March 1, 2002 proposal.

List of Subjects in 40 CFR Part 52

Environmental protection, Air pollution control, Incorporation by reference, Intergovernmental relations, Nitrogen dioxide, Ozone, Reporting and recordkeeping requirements, Volatile organic compounds.

Dated: April 11, 2002.
Nora L. McGee,
Acting Regional Administrator, Region IX.

Subpart F of Part 52, Chapter I, Title 40 of the Code of Federal Regulations is amended as follows:

PART 52—[AMENDED]

Subpart F—California

1. The authority citation for Part 52 continues to read as follows:

Authority: 42 U.S.C. 7401 et seq.

§ 52.220 [Amended]

2. Section 52.220 is amended by removing paragraph (c)(291).

[FR Doc. 02-9788 Filed 4-22-02; 8:45 am]

BILLING CODE 6560-50-P